DEPARTMENT OF THE INTERIOR

National Park Service

[NPS-WASO-NAGPRA-NPS0040068; PPWOCRADN0-PCU00RP14.R50000]

Notice of Inventory Completion: Los Rios Community College District, Sacramento, CA

AGENCY: National Park Service, Interior.

ACTION: Notice.

SUMMARY: In accordance with the Native American Graves Protection and Repatriation Act (NAGPRA), the Los Rios Community College District (LRCCD) has completed an inventory of human remains and has determined that there is a cultural affiliation between the human remains and Indian Tribes or Native Hawaiian organizations in this notice.

DATES: Repatriation of the human remains in this notice may occur on or after June 9, 2025.

ADDRESSES: Jamey Nye, Los Rios Community College District, 1919 Spanos Court, Arden-Arcade, CA 95825, telephone (916) 568-3031, email nagpra@losrios.edu.

SUPPLEMENTARY INFORMATION: This notice is published as part of the National Park Service's administrative responsibilities under NAGPRA. The determinations in this notice are the sole responsibility of LRCCD, and additional information on the determinations in this notice, including the results of consultation, can be found in the inventory or related records. The National Park Service is not responsible for the determinations in this notice.

Abstract of Information Available

Based on the information available, human remains representing, at least, two individuals have been reasonably identified. On November 28, 1994, the human remains were found by Public Works employees who were checking the area for storm related debris on Auburn Blvd., Sacramento, California. The coroner's report states that the individuals were found with one square nail, but the one square nail was not removed with the individuals. On March 22, 1995, the Sacramento County Coroner donated the individuals to the Anthropology department at American River College, one of four campuses within LRCCD. No associated funerary objects are present.

Based on the information available, human remains representing, at least, four individuals have been reasonably identified. On an unknown date, the human remains were removed from the Sacramento area by Jeremiah B. Lillard who was the president of Sacramento Junior College, now Sacramento City College, between 1923 and 1940. Sacramento City College is one of four campuses within LRCCD. In January 2024, the individuals were located in the Sacramento City College Geology department during a campus-wide audit of collections. The individuals were located in a box that was labeled “Series of Indian Jaws: showing development of dentition. Collected from Indian mounds in the vicinity of Sacramento, California. Collection loaned by J.B Lillard”. No associated funerary objects are present.

Based on the information available, human remains representing, at least, one individual have been reasonably identified. In 2023, the human remains were located on the American River College campus during a campus wide audit of their collections. In consultation with local Tribes, it was determined that the human remains were likely from the Sacramento area. No associated funerary objects are present.

Cultural Affiliation

Based on the information available and the results of consultation, cultural affiliation is clearly identified by the information available about the human remains described in this notice.

Determinations

LRCCD has determined that:

• The human remains described in this notice represent the physical remains of seven individuals of Native American ancestry.

• There is a reasonable connection between the human remains described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; Tuolumne Band of Me-Wuk Indians of the Tuolumne Rancheria of California; United Auburn Indian Community of the Auburn Rancheria of California; and the Wilton Rancheria, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 9, 2025. If competing requests for repatriation are received, LRCCD must determine the most appropriate requestor prior to repatriation. Requests for joint repatriation of the human remains are considered a single request and not competing requests. LRCCD is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08049 Filed 5-7-25; 8:45 am]

BILLING CODE 4312-52-P